NATIONAL SCIENCE FOUNDATION

NSF-NASA Astronomy and Astrophysics Advisory Committee #13883; Notice of Meeting

In accordance with the Federal Advisory Committee Act (Pub. L. 92-463, as amended), the National Science Foundation announces the following NSF-NASA Astronomy and Astrophysics Advisory Committee (#13883) meeting:

Date and Time: March 9, 2005, 2:30 a.m.-4:30 p.m.

Place: National Science Foundation, 4201 Wilson Blvd. RM 1020, Arlington, VA 22230, via teleconference.

Type of Meeting: Open.

Contact Person: Dr. G. Wayne Van Citters, Director, Division of Astronomical Sciences, Suite 1045, National Science Foundation, 4201 Wilson Blvd., Arlington, VA 22230. Telephone: 703-292-4908.

Purpose of Meeting: To provide advice and recommendations to the National Science Foundation (NSF) and the National Aeronautics and Space Administration (NASA) on issues within the field of astronomy and astrophysics that are of mutual interest and concern to the two agencies.

Agenda: To review and discuss a draft of the committee's March 2005 report.

Reason For Late Notice: While working independently on the report, committee members realized additional discussion was required. To meet the report deadline of March 15, a meeting with little advance notice is required.

Dated: March 2, 2005.
Susanne E. Bolton,
Committee Management Officer.

[FR Doc. 05-4352 Filed 3-4-05; 8:45 am]

BILLING CODE 7555-01-M